POSTAL SERVICE

39 CFR Part 20

International Mailing Services: Proposed Price Changes—CPI

AGENCY: Postal Service™.

ACTION: Proposed rule.

SUMMARY: In October 2013, the Postal Service filed a notice of mailing services price adjustments with the Postal Regulatory Commission (PRC), effective on January 26, 2014. The Postal Service proposes to revise various sections of Mailing Standards of the United States Postal Service, International Mail Manual (IMM®) to reflect these new price changes.

DATES: We must receive your comments on or before November 25, 2013.

ADDRESSES: Mail or deliver comments to the manager, Product Classification, U.S. Postal Service®, 475 L'Enfant Plaza SW., RM 4446, Washington, DC 20260-5015. You may inspect and photocopy all written comments at USPS® Headquarters Library, 475 L'Enfant Plaza SW., 11th Floor N, Washington DC by appointment only between the hours of 9 a.m. and 4 p.m., Monday through Friday by calling 1-202-268-2906 in advance. Email comments, containing the name and address of the commenter, may be sent to: MailingStandards@usps.gov, with a subject line of “January 2014 International Mailing Services Price Change—CPI.” Faxed comments are not accepted.

FOR FURTHER INFORMATION CONTACT: Rick Klutts at 813-877-0372.

SUPPLEMENTARY INFORMATION: Proposed prices are or will be available under Docket Number R2013-10 on the Postal Regulatory Commission's Web site at www.prc.gov.

This proposed rule includes price changes for First-Class Mail International® and international extra services.

First-Class Mail International

This proposed rule would increase prices for single-piece First-Class Mail International letters, postcards, and flats by approximately 2.1 percent. Specifically, there would be no increase for postcards, letters, or the nonmachinable surcharge; flats would be increased by 6.4 percent.

Under this proposal, the 2-ounce letter-size price to Canada will continue as the same price for a 1-ounce letter-size price to Canada.

International Extra Services and Customs Clearance and Delivery Fee

The Postal Service proposes to increase prices for international market dominant extra services by approximately 1.5 percent, for the following:

• Certificate of Mailing (5.5%)

• Registered Mail™ (1.2%)

• Return Receipt (2.9%)

• International Business Reply™ Cards and Envelopes (2.9%)

• Customs Clearance and Delivery Fee (4.5%)

Although exempt from the notice and comment requirements of the Administrative Procedure Act [5 U.S.C. 553(b), (c)] regarding proposed rulemaking by 39 U.S.C. 410(a), the Postal Service invites public comment on the following proposed revisions to the Mailing Standards of the United States Postal Service, International Mail Manual (IMM), incorporated by reference in the Code of Federal Regulations. See 39 CFR 20.1.

List of Subjects in 39 CFR Part 20

Foreign relations, International postal services.

Accordingly, 39 CFR part 20 is proposed to be amended as follows:

PART 20—[AMENDED]

1. The authority citation for 39 CFR part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the following sections of the Mailing Standards of the United States Postal Service, International Mail Manual (IMM) as follows:

Mailing Standards of the United States Postal Service, International Mail Manual (IMM)

* * * * *

Individual Country Listings

* * * * *

Extra Services

Certificate of Mailing (313)

[For each country that offers certificate of mailing service, revise the fees to read as follows:]

Individual pieces | Fee
Individual article (PS Form 3817) | $1.25
Firm mailing books (PS Form 3877), per article listed (minimum 3) | 0.45
Duplicate copy of PS Form 3817 or PS Form 3877 (per page) | 1.25
Bulk quantities | Fee
First 1,000 pieces (or fraction thereof) | $7.50
Each additional 1,000 pieces (or fraction thereof) | 0.90
Duplicate copy of PS Form 3606 | 1.25

* * * * *

International Business Reply Service (382)

[For each country that offers International Business Reply service, revise the fees to read as follows:]

Fee: Envelopes up to 2 ounces $1.80; Cards $1.30.

* * * * *

Registered Mail (330)

[For each country that offers international Registered Mail service, revise the fee to read as follows:]

Fee: $13.10.

* * * * *

Return Receipt (340)

[For each country that offers international return receipt service, revise the fee to read as follows:]

Fee: $3.60.

* * * * *

We will publish an appropriate amendment to 39 CFR part 20 to reflect these changes if our proposal is adopted.

Stanley F. Mires,
Attorney, Legal Policy & Legislative Advice.

[FR Doc. 2013-24929 Filed 10-23-13; 8:45 am]

BILLING CODE 7710-12-P